ENVIRONMENTAL PROTECTION AGENCY

[FRL-9142-1]

Office of Research and Development; Ambient Air Monitoring Reference and Equivalent Methods: Designation of One New Equivalent Method

AGENCY: Environmental Protection Agency.

ACTION: Notice of the designation of one new equivalent method for monitoring ambient air quality.

SUMMARY: Notice is hereby given that the Environmental Protection Agency (EPA) has designated, in accordance with 40 CFR Part 53, one new equivalent method for measuring concentrations of ozone (O3) in the ambient air.

FOR FURTHER INFORMATION CONTACT: Surender Kaushik, Human Exposure and Atmospheric Sciences Division (MD-D205-03), National Exposure Research Laboratory, U.S. EPA, Research Triangle Park, North Carolina 27711. Phone: (919) 541-5691, e-mail: Kaushik.Surender@epa.gov.

SUPPLEMENTARY INFORMATION: In accordance with regulations at 40 CFR Part 53, the EPA evaluates various methods for monitoring the concentrations of those ambient air pollutants for which EPA has established National Ambient Air Quality Standards (NAAQSs) as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of one new equivalent method for measuring ozone (O3) in the ambient air. This designation is made under the provisions of 40 CFR Part 53, as amended on November 12, 2008 (73 FR 67057-67059).

The new equivalent method for O3 is an automated method that utilizes a measurement principle based on ultraviolet absorption photometry. The newly designated equivalent method for O3 is identified as follows:

EQOA-0410-190, “2B Technologies Model 202 Ozone Monitor,” enclosed in a 3.5″ x 8.3″ x 11.6″ case, operated in an environment of 10 − 40°C, with temperature/pressure compensation, using a 10 second average, 10 second display update, on-board backup sample pump, with a 110-220V AC power adapter or a 12V DC source such as a cigarette lighter adapter plugged into a 12V DC source or a 12V DC battery for portable operation, 4.0 watt power consumption, external TFE inlet filter and holder, serial data port with computer cable, BNC connector for 0-2.5V user scalable analog output, internal data logger, 3-analog inputs for external signals (such as temperature, relative humidity or pressure), rack mount hardware, internal DewLine for humidity control and operated according to the Model 202 Ozone Monitor Operation Manual.

The application for the equivalent method determination for this candidate method was received by the EPA on November 3, 2009. The monitor is commercially available from the applicant, 2B Technologies, Incorporated, 2100 Central Ave., Suite 105, Boulder, CO 80301.

A test monitor representative of this method has been tested in accordance with the applicable test procedures specified in 40 CFR Part 53, as amended on November 12, 2008. After reviewing the results of those tests and other information submitted in the application, EPA has determined, in accordance with Part 53, that this method should be designated as an equivalent method for ozone. The information provided by the applicant will be kept on file, either at EPA's National Exposure Research Laboratory, Research Triangle Park, North Carolina 27711 or in an approved archive storage facility, and will be available for inspection (with advance notice) to the extent consistent with 40 CFR Part 2 (EPA's regulations implementing the Freedom of Information Act).

As a designated equivalent method, this method is acceptable for use by states and other air monitoring agencies under the requirements of 40 CFR Part 58, Ambient Air Quality Surveillance. For such purposes, the method must be used in strict accordance with the operation or instruction manual associated with the method and subject to any specifications and limitations (e.g., configuration or operational settings) specified in the applicable designated method description (see the identification of the method above).

Use of the method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December 2008 (available at http://www.epa.gov/ttnamti1/files/ambient/pm25/qa/QA-Handbook-Vol-II.pdf). Provisions concerning modification of such methods by users are specified under Section 2.8 (Modifications of Methods by Users) of Appendix C to 40 CFR Part 58.

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of this new equivalent method is intended to assist the States in establishing and operating their air quality surveillance systems under 40 CFR Part 58. Questions concerning the technical aspects of the method should be directed to the applicant.

Dated: April 19, 2010.
Jewel F. Morris,
Acting Director, National Exposure Research Laboratory.

[FR Doc. 2010-9756 Filed 4-26-10; 8:45 am]

BILLING CODE 6560-50-P